DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with changes to its Oil and Gas Reserves System, OMB Control Number 1905-0057. The surveys included in the Oil and Gas Reserves System are the Form EIA-64A, Annual Report of the Origin of Natural Gas Liquids Production, Form EIA-23L, Annual Report of Domestic Oil and Gas Reserves, and Form EIA-23S, Annual Survey of Domestic Oil and Gas Reserves, (Summary Version) (suspended). The surveys included in the Oil and Gas Reserves System collect information on U.S. proved crude oil, natural gas, and natural gas liquids reserves and will be used to prepare electronic annual reports of U.S. proved reserves data that fulfill EIA's congressional mandate to provide accurate annual estimates of U.S. proved crude oil and natural gas reserves. The U.S. Government also uses the resulting information in EIA's reports to develop national and regional estimates of proved reserves of domestic crude oil and natural gas to facilitate national energy policy decisions.

DATES: Comments on this information collection must be received no later than December 19, 2025. Written comments and recommendations for the proposed information collection should be sent within 30 days of publication of this notice to www.reginfo.gov/public/do/PRAMain. Find this particular information collection by selecting “Currently under 30-day Review—Open for Public Comments” or by using the search function.

FOR FURTHER INFORMATION CONTACT: Kenneth Pick, EIA Clearance Officer, at (202) 558-5562. The forms and instructions are available on EIA's website at www.eia.gov/survey/.

SUPPLEMENTARY INFORMATION: This information collection request contains

(1) OMB No.: 1905-0057;

(2) Information Collection Request Title: Oil and Gas Reserves System;

(3) Type of Request: Three-year extension with changes;

(4) Purpose: The surveys included in the Oil and Gas Reserves System collect information on U.S. proved crude oil, natural gas, and natural gas liquids reserves. In response to Public Law 95-91 Section 657, estimates of U.S. oil and gas reserves are to be reported annually. Many U.S. government agencies have an interest in the definitions of proved oil and gas reserves and the quality, reliability, and usefulness of estimates of reserves. Among these are the U.S. Energy Information Administration (EIA), Department of Energy; Bureau of Ocean Energy Management (BOEM), Department of Interior; Internal Revenue Service (IRS), Department of the Treasury; and the Securities and Exchange Commission (SEC). Each of these organizations has specific purposes for collecting, using, or estimating proved reserves. The EIA has a congressional mandate to provide accurate annual estimates of U.S. proved crude oil, natural gas, and natural gas liquids reserves, and EIA presents annual reserves data in EIA Web reports to meet this requirement. The BOEM maintains estimates of proved reserves to carry out their responsibilities in leasing, collecting royalty payments, and regulating the activities of oil and gas companies on Federal waters. Accurate reserve estimates are important, as the BOEM is second only to the IRS in generating Federal revenue. For the IRS, proved reserves and occasionally probable reserves are an essential component of calculating taxes for companies owning or producing oil and gas. The SEC requires publicly traded petroleum companies to annually file a reserves statement as part of their 10-K filing. The basic purpose of the 10-K filing is to give the investing public a clear and reliable financial basis to assess the relative value, as a financial asset, of a company's reserves, especially in comparison to other similar oil and gas companies.

The Government also uses the resulting information to develop national and regional estimates of proved reserves of domestic crude oil, natural gas, and natural gas liquids to facilitate national energy policy decisions. These estimates are essential to the development, implementation, and evaluation of energy policy and legislation. Data are used directly in EIA Web reports concerning U.S. crude oil, natural gas, and natural gas liquids reserves, and are incorporated into a number of other Web reports and analyses;

(4a) Changes to Information Collection:

Form EIA-23L, Annual Report of Domestic Oil and Gas Reserves (Change to Instructions)

EIA proposes a minor modification to Form EIA-23L instructions to align the disclosure language with other EIA surveys, without substantially changing the intention of the disclosure language.

Form EIA-64A, Annual Report of the Origin of Natural Gas Liquids Production (Change to Instructions)

EIA proposes six minor modifications to Form EIA-64A instructions to clarify the data requested:

1. Page 1 of the instructions describing who must file the form indicates that “facilities” refers to natural gas processing plants. EIA proposes adding “including gas sweetening plants” to clarify the respondent frame.

2. Page 4 of the instructions includes a diagram to assist respondents when filling out Section 2 of the form. EIA proposes defining residue gas as “dry natural gas after liquids extraction” in the text describing the diagram. This is the first place EIA uses the term residue natural gas other than in the Section title.

3. Page 4 of the instructions for Section 2.1 requests the total outlet of residue natural gas. EIA proposes clarifying the current definition of residue natural gas from “dry gas” to “dry natural gas after liquids extraction”.

4. Page 4 of the instructions for Section 2.2 requests the total natural gas used on site as plant fuel. EIA proposes modifying the current instruction to clarify that this data should include natural gas that is used to generate electricity consumed by the plant.

5. EIA proposes changing all instances of “residue gas” to “residue natural gas” for consistency within the instructions.

6. Pages 6 and 7 of the instructions include a form glossary. EIA proposes adding a definition to this glossary for gas sweetening plants: “A type of natural gas processing plant designed for removal of impurities such as hydrogen sulfide, carbon dioxide, sulfur, etc. from sour gas to make it suitable for transport and use.”;

(5) Annual Estimated Number of Respondents: 878;

(6) Annual Estimated Number of Total Responses: 878;

(7) Annual Estimated Number of Burden Hours: 15,768;

(8) Annual Estimated Reporting and Recordkeeping Cost Burden: $1,497,802 (15,768 estimated burden hours times $94.99). EIA estimates that respondents will have no additional costs associated with the surveys other than the burden hours and the maintenance of the information during the normal course of business.

Statutory Authority: 15 U.S.C. 772(b), 42 U.S.C. 7101 et seq.

Signed in Washington, DC, on November 17, 2025.
Samson A. Adeshiyan,
Director, Office of Statistical Methods and Research, U.S. Energy Information Administration.

[FR Doc. 2025-20305 Filed 11-18-25; 8:45 am]

BILLING CODE 6450-01-P